DEPARTMENT OF ENERGY

Federal Energy Regulatory Commission

Combined Notice of Filings #1

Take notice that the Commission received the following electric corporate filings:

Docket Numbers: EC17-126-000.

Applicants: South Central MCN LLC.

Description: Response to Deficiency Letter and Update to June 1, 2017 Application of South Central MCN LLC for Authorization to Acquire Transmission Facilities.

Filed Date: 10/19/17.

Accession Number: 20171019-5135.

Comments Due: 5 p.m. ET 11/9/17.

Take notice that the Commission received the following electric rate filings:

Docket Numbers: ER17-1769-001.

Applicants: Solar Star Oregon II, LLC.

Description: Notice of Change in Status of Solar Star Oregon II, LLC.

Filed Date: 10/20/17.

Accession Number: 20171020-5107.

Comments Due: 5 p.m. ET 11/13/17.

Docket Numbers: ER17-399-002.

Applicants: Midcontinent Independent System Operator, Inc., Duke Energy Indiana, LLC.

Description: Compliance filing: 2017-10-20_SA 2285 Duke Energy-AEP WDS (Hagerstown) to be effective 3/1/2017.

Filed Date: 10/20/17.

Accession Number: 20171020-5075.

Comments Due: 5 p.m. ET 11/13/17.

Docket Numbers: ER17-772-003.

Applicants: Southwest Power Pool, Inc.

Description: Compliance filing: Compliance Filing in ER17-772—Order No. 825 Compliance Filing to be effective 5/11/2017.

Filed Date: 10/20/17.

Accession Number: 20171020-5088.

Comments Due: 5 p.m. ET 11/17/17.

Docket Numbers: ER18-112-000.

Applicants: Southwestern Public Service Company.

Description: § 205(d) Rate Filing: SPS-GSEC-DSEC-Intecon Agrmt-Sub 25-692-0.0.0 to be effective 10/21/2017.

Filed Date: 10/20/17.

Accession Number: 20171020-5071.

Comments Due: 5 p.m. ET 11/13/17.

Docket Numbers: ER18-113-000.

Applicants: Northern States Power Company, a Minnesota corporation.

Description: § 205(d) Rate Filing: 2017-10-20 CAPX-Big Stone-So Brkngs-CMA-594-0.1.0-NOC to be effective 12/20/2017.

Filed Date: 10/20/17.

Accession Number: 20171020-5080.

Comments Due: 5 p.m. ET 11/13/17.

Docket Numbers: ER18-114-000.

Applicants: PJM Interconnection, L.L.C.

Description: § 205(d) Rate Filing: Wholesale Market Participation Agreement No. 4820; Queue AC1-016 to be effective 10/12/2017.

Filed Date: 10/20/17.

Accession Number: 20171020-5084.

Comments Due: 5 p.m. ET 11/13/17.

Docket Numbers: ER18-115-000.

Applicants: PJM Interconnection, L.L.C.

Description: § 205(d) Rate Filing: Wholesale Market Participation Agreement No. 4821; Queue AC1-017 to be effective 10/12/2017.

Filed Date: 10/20/17.

Accession Number: 20171020-5085.

Comments Due: 5 p.m. ET 11/13/17.

Docket Numbers: ER18-116-000.

Applicants: PJM Interconnection, L.L.C.

Description: § 205(d) Rate Filing: Wholesale Market Participation Agreement No. 4822; Queue AC1-019 to be effective 10/12/2017.

Filed Date: 10/20/17.

Accession Number: 20171020-5086.

Comments Due: 5 p.m. ET 11/13/17.

Docket Numbers: ER18-117-000.

Applicants: Solar Star Oregon II, LLC.

Description: § 205(d) Rate Filing: Normal filing 1017 to be effective 10/21/2017.

Filed Date: 10/20/17.

Accession Number: 20171020-5087.

Comments Due: 5 p.m. ET 11/13/17.

Docket Numbers: ER18-118-000.

Applicants: Public Service Company of New Mexico.

Description: Notice of Cancellation of Interconnection Agreement (Rate Schedule No. 95) of Public Service Company of New Mexico.

Filed Date: 10/20/17.

Accession Number: 20171020-5106.

Comments Due: 5 p.m. ET 11/13/17.

Docket Numbers: ER18-119-000.

Applicants: Pacific Gas and Electric Company.

Description: § 205(d) Rate Filing: CDWR Work Performance Agreement for Wind Gap Pumping Plant #2 to be effective 10/23/2017.

Filed Date: 10/20/17.

Accession Number: 20171020-5110.

Comments Due: 5 p.m. ET 11/13/17.

Docket Numbers: ER18-120-000.

Applicants: Arizona Public Service Company.

Description: § 205(d) Rate Filing: OATT Attachment G Revision to be effective 12/20/2017.

Filed Date: 10/20/17.

Accession Number: 20171020-5115.

Comments Due: 5 p.m. ET 11/13/17.

Docket Numbers: ER18-121-000.

Applicants: Alabama Power Company.

Description: § 205(d) Rate Filing: Core Solar SPV XX LGIA Filing to be effective 10/10/2017.

Filed Date: 10/20/17.

Accession Number: 20171020-5136.

Comments Due: 5 p.m. ET 11/13/17.

Docket Numbers: ER18-122-000.

Applicants: New England Power Pool Participants Committee, ISO New England Inc.

Description: § 205(d) Rate Filing: Revisions Regarding Modeling Options for Small Generators to be effective 12/20/2017.

Filed Date: 10/20/17.

Accession Number: 20171020-5149.

Comments Due: 5 p.m. ET 11/13/17.

Docket Numbers: ER18-123-000.

Applicants: PJM Interconnection, L.L.C.

Description: § 205(d) Rate Filing: Amendment to Wholesale Market Participation Agreement No. 3499, Queue No. Y1-063 to be effective 1/30/2013.

Filed Date: 10/20/17.

Accession Number: 20171020-5160.

Comments Due: 5 p.m. ET 11/13/17.

Docket Numbers: ER18-124-000.

Applicants: Midcontinent Independent System Operator, Inc., Northern States Power Company, a Minnesota corporation, Great River Energy.

Description: § 205(d) Rate Filing: 2017-10-20_SA 3060 NSP-GRE T-T Pomerleau Lake to be effective 11/1/2017.

Filed Date: 10/20/17.

Accession Number: 20171020-5171.

Comments Due: 5 p.m. ET 11/13/17.

Take notice that the Commission received the following electric securities filings:

Docket Numbers: ES17-64-000.

Applicants: Monongahela Power Company.

Description: Amendment to September 29, 2017 Application for Authorization Under Section 204(a) of the Federal Power Act to Issue Short-Term Debt Securities of Monongahela Power Company.

Filed Date: 10/20/17.

Accession Number: 20171020-5135.

Comments Due: 5 p.m. ET 11/13/17.

Docket Numbers: ES18-4-000.

Applicants: Monongahela Power Company.

Description: Application Of Monongahela Power Company For Authorization under Section 204(A) of the FPA.

Filed Date: 10/20/17.

Accession Number: 20171020-5105.

Comments Due: 5 p.m. ET 11/13/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 20, 2017.
Nathaniel J. Davis, Sr.,
Deputy Secretary.

[FR Doc. 2017-23291 Filed 10-25-17; 8:45 am]

BILLING CODE 6717-01-P